OFFICE OF MANAGEMENT AND BUDGET

Issuance of Revised OMB Circular No. A-4, “Regulatory Analysis”

AGENCY: Office of Management and Budget.

ACTION: Notice of availability.

SUMMARY: The Office of Management and Budget (OMB) is announcing the issuance of the revised Circular A-4, “Regulatory Analysis.”

ADDRESSES: Circular A-4, “Regulatory Analysis,” is available at https://www.whitehouse.gov/wp-content/uploads/2023/11/CircularA-4.pdf. “OMB Circular No. A-4: Explanation and Response to Public Input”—a document providing explanations of OMB's decisions that are reflected in the revisions to Circular A-4, as well as responses to public comments and peer reviewers' reports on the draft revisions—is available at https://www.whitehouse.gov/wp-content/uploads/2023/11/CircularA-4Explanation.pdf.

FOR FURTHER INFORMATION CONTACT: Office of Management and Budget, Office of Information and Regulatory Affairs, at MBX.OMB.OIRA .A4Modernization@omb.eop.gov.

SUPPLEMENTARY INFORMATION: OMB announces the issuance of the revised Circular A-4, “Regulatory Analysis.” OMB Circular No. A-4 provides the Office of Management and Budget's guidance to Federal agencies on the development of regulatory analysis as required under section 6(a)(3)(C) of Executive Order 12866 of September 30, 1993 (Regulatory Planning and Review), as amended; the Regulatory Right-to-Know Act, Public Law 106-554, 624, 114 Stat. 2763, 2763A-161 (2000) (codified as amended at 31 U.S.C. 1105 note); and a variety of related authorities. The Circular also provides guidance to agencies on the regulatory accounting statements that are required under the Regulatory Right-to-Know Act. The new Circular is available at https://www.whitehouse.gov/wp-content/uploads/2023/11/CircularA-4.pdf.

This Circular supersedes and rescinds the previous version of OMB Circular No. A-4, issued on September 17, 2003.

A draft of this Circular was subject to public comment, external peer review, and interagency review.

Richard L. Revesz,
Administrator, Office of Information and Regulatory Affairs.

[FR Doc. 2023-24819 Filed 11-9-23; 8:45 am]

BILLING CODE P